DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The ICR describes the nature of the information collection and the expected burden. The Federal Register Notice with a 60-day comment period soliciting comments on the following collection of information was published on September 24, 2001, pages 48899 and 48900.

DATES: Comments must be submitted on or before January 28, 2002. A comment to OMB is most effective if OMB receives it within 30 days of publication.

FOR FURTHER INFORMATION CONTACT: Judy Street on (202) 267-9895.

SUPPLEMENTARY INFORMATION:

Federal Aviation Administration (FAA)

Title: Flight Data Recorder Resolution Requirements.

Type of Request: Extension of a currently approved collection.

OMB Control Number: 2120-0669.

Forms(s): NA.

Affected Public: A total of 50 air carriers and individual aircraft operators.

Abstract: The FAA has issued a special aviation regulation that will provide relief from the flight data recorder requirements of 14 CFR 121.344 and will request information from airplane operators on which and how many planes are not in compliance. The information will be used by the FAA to track compliance with the underlying regulation, and to determine who will be affected by any subsequent FAA action to resolve the problems described by the manufacturer.

Estimated Annual Burden Hours: An estimated 67 hours annually.

ADDRESSES: Send comments to the Office of Information and Regulatory Affairs, Office of Management and Budget, 725 17th Street, NW, Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issues in Washington, DC, on December 19, 2001.
Steve Hopkins,
Manager, Standards and Information Division, APF-100.

[FR Doc. 01-31729 Filed 12-26-01; 8:45 am]

BILLING CODE 4910-13-M